DEPARTMENT OF COMMERCE

International Trade Administration

[A-570-967]

Aluminum Extrusions From the People's Republic of China: Preliminary Results of Antidumping Duty Administrative Review and Rescission, in Part, 2010/12

AGENCY: Import Administration, International Trade Administration, Department of Commerce.

SUMMARY: The Department of Commerce (“the Department”) is conducting an administrative review of the antidumping duty order on aluminum extrusions from the People's Republic of China (“PRC”).¹ The period of review (“POR”) is November 12, 2010, through April 30, 2012. The review covers two exporters of subject merchandise who are mandatory respondents: Kromet International, Inc. (“Kromet”); and a single entity comprised of Guang Ya Aluminum Industrial Co., Ltd. (“Guang Ya”), Foshan Guangcheng Aluminum Co., Ltd. (“Guangcheng”) (collectively “Guang Ya Group”); Guangdong Zhongya Aluminum Co., Ltd., (“Zhongya”); and Foshan Nanhai Xinya (“Xinya”) (collectively “Guang Ya Group/Zhongya/Xinya”). The Department preliminarily finds that Kromet did not make sales of subject merchandise at less than normal value and that Guang Ya Group/New Zhongya/Xinya failed to demonstrate that it was eligible for a separate rate and thus is part of the PRC-wide entity. Furthermore, the Department received separate rate applications from 33 additional exporters, of which only four have been preliminarily found to be eligible for a separate rate: Gold Mountain International Development Limited; Shenzhen Jiuyuan Co., Ltd.; Sincere Profit Limited; and Skyline Exhibit Systems (Shanghai) Co., Ltd.

¹ The Department initiated this review on July 10, 2012. See Initiation of Antidumping and Countervailing Duty Administrative Reviews and Request for Revocation in Part, 77 FR 40565 (July 10, 2012) (“Initiation Notice”).

DATES: Effective Date: June 11, 2013.

FOR FURTHER INFORMATION CONTACT: Paul Stolz or Demitrios Kalogeropoulos, AD/CVD Operations, Office 8, Import Administration, International Trade Administration, Department of Commerce, 1401 Constitution Avenue NW., Washington, DC 20230; telephone: (202) 482-4474 or (202) 482-2623, respectively.

SUPPLEMENTARY INFORMATION:

Scope of the Order

The merchandise covered by the Order ² is aluminum extrusions which are shapes and forms, produced by an extrusion process, made from aluminum alloys having metallic elements corresponding to the alloy series designations published by The Aluminum Association commencing with the numbers 1, 3, and 6 (or proprietary equivalents or other certifying body equivalents).³

² See Aluminum Extrusions from the People's Republic of China: Antidumping Duty Order, 76 FR 30650 (May 26, 2011) (“Order”).

³ See “Decision Memorandum for Preliminary Results Antidumping Duty Administrative Review: Aluminum Extrusions from the People's Republic of China,” from Christian Marsh, Deputy Assistant Secretary for Antidumping and Countervailing Duty Operations to Paul Piquado, Assistant Secretary for Import Administration, dated concurrently with this notice (“Preliminary Decision Memorandum”) for a complete description of the scope of the Order.

Imports of the subject merchandise are provided for under the following categories of the Harmonized Tariff Schedule of the United States (“HTSUS”): 7610.10.00, 7610.90.00, 7615.10.30, 7615.10.71, 7615.10.91, 7615.19.10, 7615.19.30, 7615.19.50, 7615.19.70, 7615.19.90, 7615.20.00, 7616.99.10, 7616.99.50, 8479.89.98, 8479.90.94, 8513.90.20, 9403.10.00, 9403.20.00, 7604.21.00.00, 7604.29.10.00, 7604.29.30.10, 7604.29.30.50, 7604.29.50.30, 7604.29.50.60, 7608.20.00.30, 7608.20.00.90, 8302.10.30.00, 8302.10.60.30, 8302.10.60.60, 8302.10.60.90, 8302.20.00.00, 8302.30.30.10, 8302.30.30.60, 8302.41.30.00, 8302.41.60.15, 8302.41.60.45, 8302.41.60.50, 8302.41.60.80, 8302.42.30.10, 8302.42.30.15, 8302.42.30.65, 8302.49.60.35, 8302.49.60.45, 8302.49.60.55, 8302.49.60.85, 8302.50.00.00, 8302.60.90.00, 8305.10.00.50, 8306.30.00.00, 8418.99.80.05, 8418.99.80.50, 8418.99.80.60, 8419.90.10.00, 8422.90.06.40, 8479.90.85.00, 8486.90.00.00, 8487.90.00.80, 8503.00.95.20, 8516.90.50.00, 8516.90.80.50, 8708.80.65.90, 9401.90.50.81, 9403.90.10.40, 9403.90.10.50, 9403.90.10.85, 9403.90.25.40, 9403.90.25.80, 9403.90.40.05, 9403.90.40.10, 9403.90.40.60, 9403.90.50.05, 9403.90.50.10, 9403.90.50.80, 9403.90.60.05, 9403.90.60.10, 9403.90.60.80, 9403.90.70.05, 9403.90.70.10, 9403.90.70.80, 9403.90.80.10, 9403.90.80.15, 9403.90.80.20, 9403.90.80.30, 9403.90.80.41, 9403.90.80.51, 9403.90.80.61, 9506.51.40.00, 9506.51.60.00, 9506.59.40.40, 9506.70.20.90, 9506.91.00.10, 9506.91.00.20, 9506.91.00.30, 9506.99.05.10, 9506.99.05.20, 9506.99.05.30, 9506.99.15.00, 9506.99.20.00, 9506.99.25.80, 9506.99.28.00, 9506.99.55.00, 9506.99.60.80, 9507.30.20.00, 9507.30.40.00, 9507.30.60.00, 9507.90.60.00, and 9603.90.80.50.

The subject merchandise entered as parts of other aluminum products may be classifiable under the following additional Chapter 76 subheadings: 7610.10, 7610.90, 7615.19, 7615.20, and 7616.99 as well as under other HTSUS chapters. In addition, fin evaporator coils may be classifiable under HTSUS numbers: 8418.99.80.50 and 8418.99.80.60. While HTSUS subheadings are provided for convenience and customs purposes, the written description of the scope of this Order is dispositive.⁴

⁴ See Order.

Partial Rescission of Review

For those companies named in the Initiation Notice for which all review requests have been timely withdrawn and which previously received separate rate status in a completed prior segment of this proceeding, we are rescinding this administrative review, in accordance with 19 CFR 351.213(d)(1). These companies are Alnan Aluminium Co., Ltd., Changshu Changsheng Aluminum Products Co., Ltd., Pingguo Asia Aluminum Co., Ltd., and Taishan City Kam Kiu Aluminum Extrusion Co., Ltd.

For those companies named in the Initiation Notice for which all review requests have been withdrawn, but which have not previously received separate rate status, the Department's practice is to refrain from rescinding the review with respect to these companies at this time. While the requests for review of these companies were timely withdrawn, the companies remain a part of the PRC-wide entity.⁵ The PRC-wide entity is under review for these preliminary results. Thus, we are not rescinding this review with respect to these companies at this time, but the Department will make a determination with respect to the PRC-wide entity at the conclusion of this review.

⁵ These companies are: (1) Clear Sky Inc. (2) Foshan City Nanhai Hongjia Aluminum Alloy Co., Ltd.; (3) Guangdong Nanhai Foodstuffs Imp. & Exp. Co., Ltd.; (4) Isource Asia Limited and affiliates; (5) Kunshan Giant Light Metal Technology Co., Ltd.; (6) Midea Air-Conditioning Equipment Co., Ltd.; (7) Nidec Sankyo Singapore Pte. Ltd.; (8) Nidec Sankyo (Zhejang) Corporation; (9) Ningbo Coaster International Co., Ltd.; (10) Shanghai Dongsheng Metal; (11) Shanghai Shen Hang Imp. & Exp. Co., Ltd.; (12) Sihui Shi Guo Yao Aluminum Co., Ltd.; (13) Suzhou JRP Import & Export Co., Ltd.; (14) Shandong Huasheng Pesticide Machinery Co.; (15) Tianjin Gangly Nonferrous Metal Materials Co., Ltd.

Methodology

The Department has conducted this review in accordance with section 751(a)(1)(B) of the Tariff Act of 1930, as amended (“the Act”). Export and constructed export prices have been calculated in accordance with sections 772(a) and (b) of the Act. Because the PRC is a non-market economy (“NME”) within the meaning of section 771(18) of the Act, normal value has been calculated in accordance with section 773(c) of the Act. Specifically, the respondent's factors of production have been valued using, when possible, the Philippines as the surrogate country. The Philippines is a market economy country that is economically comparable to the PRC and is a significant producer of comparable merchandise.⁶ To determine the appropriate comparison method, the Department applied a “differential pricing” analysis and has preliminarily determined to use the average-to average method in making comparisons of export price and constructed export price to normal value for Kromet.

⁶ See Memorandum to Eugene Degnan, “Request for a List of Surrogate Countries for an Administrative Review of the Antidumping Duty Order on Aluminum Extrusions from the People's Republic of China, dated January 25, 2013 (“Surrogate Country Memorandum”).

For a full description of the methodology underlying our preliminary results, please see the Preliminary Decision Memorandum hereby adopted by this notice. The Preliminary Decision Memorandum is a public document and is on file electronically via Import Administration's Antidumping and Countervailing Duty Centralized Electronic Service System (“IA ACCESS”). IA ACCESS is available to registered users at http://iaaccess.trade.gov, and is available to all parties in the Central Records Unit, Room 7046 of the main Department of Commerce building. In addition, a complete version of the Preliminary Decision Memorandum can be accessed directly on the Internet at http://www.trade.gov/ia/. The signed Preliminary Decision Memorandum and the electronic versions of the Preliminary Decision Memorandum are identical in content.

Separate Rates

In the Initiation Notice, we informed parties of the opportunity to request a separate rate. In proceedings involving NME countries, the Department begins with a rebuttable presumption that all companies within the NME country are subject to government control and, thus, should be assigned a single weighted-average dumping margin. It is the Department's policy to assign all exporters of merchandise subject to an administrative review involving an NME country this single rate unless an exporter can demonstrate that it is sufficiently independent so as to be entitled to a separate rate. Companies that wanted to be considered for a separate rate in this review were required to timely file a separate rate application (“SRA”) or a separate rate certification to demonstrate eligibility for a separate rate. Separate rate applications and separate rate certifications were due to the Department within 60 calendar days of the publication of the Initiation Notice.

In this review, ten exporters for which a review was requested did not submit separate-rate information to rebut the presumption that, like all companies within the PRC, they are subject to government control.⁷ As further discussed in the Preliminarily Decision Memorandum, we determine that these entities have not demonstrated that they operate free from government control. Thus, we preliminary determine that they part of the PRC-wide entity.

⁷ These companies are: (1) Activa International Incorporated; (2) Changzhou Changfa Power Machinery Co., Ltd.; (3) Foshan Shunde Aoneng Electrical Applicances Co., Ltd. (4) Foshan Yong Li Jian Alu. Ltd. (5) Guangzhou Mingcan Die-Casting Hardware Products Co., Ltd.; (6) Jiaxing Taixin Metal Products Co., Ltd.; (7) North China Aluminum Co., Ltd. (8) Metaltek Metal Industry Ltd.; (9) Zhejuang Zhengte Group Co., Ltd.; and (10) Zhuhai Runxingtai Electrical Equipment Co., Ltd.

Twenty-seven separate-rate applicants still under review submitted a SRA that did not demonstrate a sale/entry of subject merchandise during the POR by means of a U.S. Customs and Border Protection (“CBP”) entry summary form (CBP Form 7501) showing a suspended AD/CVD entry.⁸ On May 14, 2013, the Department issued a supplemental questionnaire to these 27 separate rate applicants and requested an explanation as to why their respective SRAs did not pertain to a suspended AD/CVD entry, and requested that the separate-rate applicants submit documentation for the first sale of suspended subject merchandise made during the POR.⁹ Therefore, for these preliminary results, the Department is not able to make a determination whether these companies are eligible for a separate rate, or had reviewable entries of subject merchandise. However, we will analyze the responses from these companies to our May 14, 2013, supplemental questionnaire and will continue to consider this issue for the final results.

⁸ These 27 companies are: (1) Acro Import and Export Corp.; (2) Allied Maker Limited; (3) Changzhou Changzheng Evaporator Co., Ltd.; (4) Changzhou Tenglong Auto Parts Co., Ltd.; (5) Dongguan Aoda Aluminum Co., Ltd.; (6) Dongguan Golden Tiger Hardware Industrial Co., Ltd.; (7) Dynamic Technologies China Ltd.; (8) Global PMX (Dongguan) Co., Ltd.; (8) Gree Electric Appliances, Inc. of Zhuhai; (10) Guangdong Whirlpool Electrical Appliances Co., Ltd.; (11) Hangzhou Xingyi Metal Products Co., Ltd.; (12) Hanyung Alcobis Co., Ltd.; (13) Henan New Kelong Electrical Appliances Co., Ltd.; (14) IDEX Dinglee Technology (Tianjin) Co., Ltd.; (15) Jiangsu Changfa Refrigeration Co., Ltd.; (16) Jiaxing Jackson Travel Products Co., Ltd.; (17) Justhere Co., Limited; (18) Metaltek Group Co., Ltd.; (19) Midea International Trading Co., Ltd.; (20) Shanghai Tongtai Precise Aluminum Alloy Manufacturing Co., Ltd; (21) Shenzhen Hudson Technology Development Co., Ltd.; (22) Suzhou New Hongji Precision Part Co., Ltd.; (23) Taizhou Lifeng Manufacturing Corp.; (24) Tianjin Jinmao Import & Export Corp., Ltd. (25) Union Industry (Asia) Co., Limited; (26) Xin Wei Aluminum Company Limited, Guang Dong Xin Wei Aluminum Products Co., Ltd., and Xin Wei Aluminum Co., Ltd.; and (27) Zhejiang Xinlong Industry Co., Ltd.

⁹ See the Department's letter “Aluminum Extrusions from the People's Republic of China: Supplemental Questionnaire—Separate Rate Application,” dated May 14, 2013.

Preliminary Results of Review

The Department preliminarily determines that the following weighted-average dumping margins exist for the POR:

Exporter | Weighted-average dumping margin (percent)
Kromet International, Inc | 0.00
Sincere Profit Limited | 32.79
Skyline Exhibit Systems (Shanghai) Co., Ltd | 32.79
Gold Mountain International | 32.79
Shenzhen Jiuyuan Co., Ltd | 32.79
PRC-wide Entity¹⁰ | 32.79

Disclosure and Public Comment

The Department intends to disclose to the parties the calculations performed for these preliminary results within five days of the date of publication of this notice in accordance with 19 CFR 351.224(b). Interested parties may submit case briefs no later than 30 days after the date of publication of these preliminary results of review.¹¹ Rebuttal briefs, limited to issues raised in the case briefs, may be filed no later than five days after the case briefs are filed.¹²

¹⁰ The PRC-wide entity includes: (1) Guang Ya Group/Zhongya/Xinya; (2) Foshan City Nanhai Hongjia Aluminum Alloy Co., Ltd.; (3) Foshan Shunde Aoneng Electrical Appliances Co., Ltd.; (4) Guangdong Nanhai Foodstuffs Imp. & Exp. Co., Ltd.; (5) Isource Asia Limited and affiliates; (6) Kunshan Giant Light Metal Technology Co., Ltd.; (7) Midea Air-Conditioning Equipment Co., Ltd.; (8) Nidec Sankyo Singapore Pte. Ltd.; (9) Nidec Sankyo (Zhejang) Corporation; (10) Ningbo Coaster International Co., Ltd.; (11) Shanghai Dongsheng Metal; (12) Shanghai Shen Hang Imp. & Exp. Co., Ltd.; (13) Sihui Shi Guo Yao Aluminum Co., Ltd.; (14) Suzhou JRP Import & Export Co., Ltd.; (15) Tianjin Gangly Nonferrous Metal Materials Co., Ltd.; (16) Activa International Incorporated; (17) Changzhou Changfa Power Machinery Co., Ltd.; (18) Foshan Yong Li Jian Alu. Ltd. (19) Guangzhou Mingcan Die-Casting Hardware Products Co., Ltd.; (20) Jiaxing Taixin Metal Products Co., Ltd.; (21) Metaltek Metal Industry Ltd.; (22) Zhejuang Zhengte Group Co., Ltd.; (23) Clear Sky Inc.; and (24) Zhuhai Runxingtai Electrical Equipment Co., Ltd.; (25) Shandong Huasheng Pesticide Machinery Co.; and (26) North China Aluminum Co., Ltd.

¹¹ See 19 CFR 351.309(c).

¹² See 19 CFR 351.309(d).

Any interested party may request a hearing within 30 days of publication of this notice.¹³ Hearing requests should contain the following information: (1) The party's name, address, and telephone number; (2) the number of participants; and (3) a list of the issues to be discussed. Oral presentations will be limited to issues raised in the case and rebuttal briefs. If a request for a hearing is made, parties will be notified of the time and date for the hearing to be held at the U.S. Department of Commerce, 1401 Constitution Avenue NW., Washington, DC 20230.¹⁴

¹³ See 19 CFR 351.310(c).

¹⁴ See 19 CFR 351.310(d)(1).

Unless otherwise extended, the Department intends to issue the final results of this administrative review, which will include the results of its analysis of issues raised in the case and rebuttal briefs, within 120 days of publication of these preliminary results, pursuant to section 751(a)(3)(A) of the Act.

Deadline for Submission of Publicly Available Surrogate Value Information

In accordance with 19 CFR 351.301(c)(3)(ii) (2012), the deadline for submission of publicly available information to value factors of production under 19 CFR 351.408(c) is 20 days after the date of publication of the preliminary results. In accordance with 19 CFR 351.301(c)(1) (2012), if an interested party submits factual information less than ten days before, on, or after (if the Department has extended the deadline), the applicable deadline for submission of such factual information, an interested party may submit factual information to rebut, clarify, or correct the factual information no later than ten days after such factual information is served on the interested party. However, the Department generally will not accept in the rebuttal submission additional or alternative surrogate value information not previously on the record, if the deadline for submission of surrogate value information has passed.¹⁵ Furthermore, the Department generally will not accept business proprietary information in either the surrogate value submissions or the rebuttals thereto, as the regulation regarding the submission of surrogate values allows only for the submission of publicly available information.¹⁶

¹⁵ See, e.g., Glycine from the People's Republic of China: Final Results of Antidumping Duty Administrative Review and Final Rescission, in Part, 72 FR 58809 (October 17, 2007), and accompanying Issues and Decision Memorandum at Comment 2.

¹⁶ See 19 CFR 351.301(c)(3).

Assessment Rates

Upon issuance of the final results of this review, the Department will determine, and CBP shall assess, antidumping duties on all appropriate entries covered by this review.¹⁷ The Department intends to issue appropriate assessment instructions to CBP 15 days after publication of the final results of this review.

¹⁷ See 19 CFR 351.212(b)(1).

For each individually examined respondent whose weighted-average dumping margin is not zero or de minimis (i.e., less than 0.5 percent), we will calculate importer-specific ad valorem duty assessment rates based on the ratio of the total amount of dumping calculated for the importer's examined sales to the total entered value of those same sales in accordance with 19 CFR 351.212(b)(1).¹⁸ For duty assessment rates calculated on this basis, we will direct CBP to assess the resulting ad valorem rate against the entered customs values for the subject merchandise. If the weighted-average dumping margin for the exporter is zero or de minimis, or the importer-specific assessment rate is zero or de minimis, then the Department will instruct CBP to liquidate the appropriate entries without regard to antidumping duties.

¹⁸ In these preliminary results, the Department applied the assessment rate calculation method adopted in Antidumping Proceedings: Calculation of the Weighted-Average Dumping Margin and Assessment Rate in Certain Antidumping Proceedings: Final Modification, 77 FR 8101 (February 14, 2012).

The Department recently announced a refinement to its assessment practice in NME cases. Pursuant to this refinement in practice, for entries that were not reported in the U.S. sales databases submitted by companies individually examined during this review, the Department will instruct CBP to liquidate such entries at the PRC-wide rate. In addition, if the Department determines that an exporter under review had no shipments of the subject merchandise, any suspended entries that entered under that exporter's case number (i.e., at that exporter's rate) will be liquidated at the PRC-wide rate.¹⁹

¹⁹ See Non-Market Economy Antidumping Proceedings: Assessment of Antidumping Duties, 76 FR 65694, 65694-95 (October 24, 2011).

The final results of this review shall be the basis for the assessment of antidumping duties on entries of merchandise covered by the final results of this review and for future deposits of estimated duties, where applicable.

Cash Deposit Requirements

The following cash deposit requirements for estimated antidumping duties, when imposed, will apply to all shipments of subject merchandise entered, or withdrawn from warehouse, for consumption on or after the publication of the final results of this administrative review, as provided by section 751(a)(2)(C) of the Act: (1) if Kromet; Gold Mountain International Development Limited; Shenzhen Jiuyuan Co., Ltd.; Sincere Profit Limited; or Skyline Exhibit Systems (Shanghai) Co., Ltd., receive a separate rate in the final results of this administrative review, then their cash deposit rate will be equal to the weighted-average dumping margin established in the final results of this review (except, if the rate is zero or de minimis, then the cash deposit rate will be zero); (2) for any previously investigated or reviewed PRC and non-PRC exporter that is not under review in this segment of the proceeding but that received a separate rate in a completed prior segment, the cash deposit rate will continue to be the exporter-specific rate published for the most recently completed segment of this proceeding; (3) for all PRC exporters of subject merchandise that have not been found to be entitled to a separate rate, the cash deposit rate will be equal to the cash deposit rate for for the PRC-wide entity, which will be equal to the weighted-average dumping margin assigned to the PRC-wide entity in the final results of this administrative review; ²⁰ and (4) for all non-PRC exporters of subject merchandise which have not received their own rate, the cash deposit rate will be the rate applicable to the PRC exporter(s) that supplied that non-PRC exporter. These cash deposit requirements, when imposed, shall remain in effect until further notice.

²⁰ See Aluminum Extrusions from the People's Republic of China: Final Determination of Sales at Less Than Fair Value, 76 FR 18524 (April 4, 2011) (“Final Determination”) and Order.

Notification to Importers

This notice also serves as a preliminary reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

We are issuing and publishing notice of these results in accordance with sections 751(a)(1) and 777(i)(1) of the Act.

Dated: June 3, 2013.
Paul Piquado,
Assistant Secretary for Import Administration.

Appendix

List of Topics Discussed in the Preliminary Decision Memorandum

1. Summary

2. Background

3. Scope of the Order

4. Partial Rescission of Administrative Review

5. Affiliation and Collapsing

6. Non-Market Economy Country

7. Separate Rates

8. Separate-Rate Recipients

9. Rate for Separate-Rate Recipients

10. The PRC-wide Entity

11. Adverse Facts Available

12. Selection of an AFA Rate

13. Corroboration

14. Surrogate Country and Surrogate Value Data

15. Surrogate Country

16. Economic Comparability

17. Significant Producers of Identical or Comparable Merchandise

18. Data Availability

19. Date of Sale

20. Comparisons to Normal Value

21. Results of the Differential Pricing Analysis

22. Export Price and Constructed Export Price

23. Normal Value

24. Factor Valuations

25. Adjustment Under Section 777A(f) of the Act

26. Currency Conversion

27. Conclusion

[FR Doc. 2013-13816 Filed 6-10-13; 8:45 am]

BILLING CODE 3510-DS-P